DEPARTMENT OF COMMERCE

International Trade Administration

Architecture Services Trade Mission to Qatar, November 16-19, 2014

AGENCY: International Trade Administration, Department of Commerce.

ACTION: Amendment.

SUMMARY: The United States Department of Commerce, International Trade Administration is amending the Notice published at 79 FR 44157, July 30, 2014, for the Architecture Services Trade Mission to Qatar, with an optional mission stop in Saudi Arabia, from November 16-19, 2014 to revise the mission description from executive-led to non-executive led.

FOR FURTHER INFORMATION CONTACT:

Trade Missions Office

Arica Young, U.S. Department of Commerce, Washington, DC, Tel: 613-317-7538, Email: Arica.Young@trade.gov.

Industry and Analysis

Eugene Alford, U.S. Department of Commerce, Washington, DC 20230, Tel: 202-482-5071, Email: Eugene.Alford@trade.gov.

Frank Spector,
Acting, Trade Mission Director.

[FR Doc. 2014-24427 Filed 10-10-14; 8:45 am]

BILLING CODE 3510-FP-P